DEPARTMENT OF HOMELAND SECURITY

Coast Guard

33 CFR Part 117

[Docket No. USCG-2018-0033]

Drawbridge Operation Regulation; New Jersey Intracoastal Waterway, Beach Thorofare, Margate City, NJ

AGENCY: Coast Guard, DHS.

ACTION: Notice of deviation from drawbridge regulation; modification.

SUMMARY: The Coast Guard has modified a temporary deviation from the operating schedule that governs the Margate Boulevard/Margate Bridge, which carries Margate Boulevard across the New Jersey Intracoastal Waterway, Beach Thorofare, mile 74.0, at Margate City, NJ. This modified deviation is necessary to facilitate bridge maintenance. This modified deviation allows the bridge to remain in the closed-to-navigation position.

DATES: This modified deviation is effective without actual notice from March 15, 2018 through 7 p.m. on March 26, 2018. For the purposes of enforcement, actual notice will be used from 7:01 p.m. on March 12, 2018 until March 15, 2018.

ADDRESSES: The docket for this deviation, [USCG-2018-0033] is available at http://www.regulations.gov. Type the docket number in the “SEARCH” box and click “SEARCH”. Click on Open Docket Folder on the line associated with this deviation.

FOR FURTHER INFORMATION CONTACT: If you have questions on this modified temporary deviation, call or email Mr. Michael R. Thorogood, Bridge Administration Branch Fifth District, Coast Guard, telephone 757-398-6557, email Michael.R.Thorogood@uscg.mil.

SUPPLEMENTARY INFORMATION: On February 1, 2018, the Coast Guard published a temporary deviation entitled, “Drawbridge Operation Regulation; New Jersey Intracoastal Waterway, Beach Thorofare, Margate City, NJ” in the Federal Register (83 FR 4585). That document resulted from Ole Hansen and Sons, Inc.'s, request for a temporary deviation, occurring from 7 a.m. on February 26, 2018, through 7 p.m. on March 12, 2018, from normal operation of the drawbridge to facilitate bridge maintenance. Subsequent to the approval of that request, Ole Hansen & Sons Inc. requested a modification, extending the temporary deviation from 7:01 p.m. on March 12, 2018, through 7 p.m. on March 26, 2018, to allow more time to perform and complete bridge maintenance unable to be performed due to extreme inclement weather events during the previous temporary deviation. Therefore, the Coast Guard modifies the dates of the previously approved temporary deviation to allow the Margate Boulevard/Margate Bridge that carries Margate Boulevard across the New Jersey Intracoastal Waterway, Beach Thorofare, mile 74.0, at Margate City, NJ, to remain in the closed-to-navigation position from 7:01 p.m. on March 12, 2018, through 7 p.m., on March 26, 2018. The bridge has a vertical clearance of 14 feet above mean high water in the close position and unlimited clearance in the open position. The current operating schedule is set out in 33 CFR 117.5.

The Beach Thorofare is used by a variety of vessels including recreational vessels. The Coast Guard has carefully coordinated the restrictions with waterway users in publishing this temporary deviation.

Vessels able to pass through the bridge in the closed position may do so at any time. The bridge will not be able to open for emergencies and there is no immediate alternative route for vessels unable to pass through the bridge in the closed position. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: March 12, 2018.
Hal R. Pitts,
Bridge Program Manager, Fifth Coast Guard District.

[FR Doc. 2018-05297 Filed 3-14-18; 8:45 am]

BILLING CODE 9110-04-P